DEPARTMENT OF THE INTERIOR

Bureau of Land Management

[BLM_CA_FRN_MO4500168353]

Notice of Intent To Amend the California Desert Conservation Area Plan Associated With the Mojave Trails National Monument Management Plan and Prepare an Associated Environmental Assessment

AGENCY: Bureau of Land Management, Interior.

ACTION: Notice of intent.

SUMMARY: In compliance with the National Environmental Policy Act of 1969, as amended (NEPA), and the Federal Land Policy and Management Act of 1976, as amended (FLPMA), the Bureau of Land Management (BLM) California State Director intends to prepare a management plan for the Mojave Trails National Monument (MTNM), through an amendment to the approved California Desert Conservation Area (CDCA) land use plan, and an environmental assessment (EA). By this notice, the BLM is announcing the beginning of the scoping period to solicit public comments and Identify issues, providing the planning criteria for public review, and issuing a call for nominations for areas of critical environmental concern (ACECs).

DATES: The BLM requests that the public submit comments concerning the scope of the analysis, potential alternatives, and identification of relevant information and studies, and ACEC nominations by June 20, 2023. To afford the BLM the opportunity to consider issues and ACEC nominations raised by commenters in the draft land use plan amendment/EA, please ensure your comments are received prior to the close of the 45-day scoping period or 15 days after the last public meeting, whichever is later. Scoping meetings are expected to occur in late May to early June 2023 in the cities of Needles, Barstow, and Twentynine Palms. There will be one virtual meeting and three meetings in person. All meetings will be announced though a new release.

ADDRESSES: You may submit comments on issues and planning criteria related to the MTNM Management Plan and nominations of new ACECs by any of the following methods:

• Website: https://eplanning.blm.gov/eplanning-ui/admin/project/2022347/510.

• Email: BLM_CA_NFO_MTNM_Plan@blm.gov.

• Fax: 760-326-7099.

• Mail: 1303 S U.S. Hwy 95, Needles, CA 92363.

Documents pertinent to this proposal may be examined online at https://eplanning.blm.gov/eplanning-ui/admin/project/2022347/510 and at the Needles Field Office.

Addresses of meeting locations are not yet determined but one each will be held in the:

• City of Twentynine Palms, CA

• City of Needles, CA

• City of Barstow, CA

FOR FURTHER INFORMATION CONTACT: Noelle Glines-Bovio, Mojave Trails National Monument Manager, telephone (760) 903-8356; address: Mojave Trails National Monument—Monument Plan Comments, Bureau of Land Management, 1303 U.S.-95, Needles, California 95521-4373; email: BLM_CA_NFO_MTNM_Plan@blm.gov. Contact Noelle Glines-Bovio to have your name added to our mailing list. Individuals in the United States who are deaf, deafblind, hard of hearing, or have a speech disability may dial 711 (TTY, TDD, or TeleBraille) to access telecommunications relay services for contacting Noelle Glines-Bovio. Individuals outside the United States should use the relay services offered within their country to make international calls to the point-of-contact in the United States.

SUPPLEMENTARY INFORMATION: This document provides notice that the BLM California State Director intends to prepare a management plan for the MTNM, through an amendment to the approved CDCA land use plan, which will include an EA; announces the beginning of the scoping process; seeks public input on issues and planning criteria; and invites the public to nominate ACECs. The land use plan amendment would change the approved CDCA plan as amended. In particular, the BLM anticipates potential amendments to decisions associated with special designations, visual resources, lands and realty, cultural resources, and recreation. The planning area is located in San Bernardino and Riverside counties, California, and encompasses approximately 1.6 million acres of public land.

Purpose and Need

The MTNM Management Plan and CDCA land use plan amendment responds to the following overarching requirements and guidance in determining the management framework necessary to protect the monument's resources, objects, and values.

FLPMA provides the basic underpinnings for the BLM's management of public lands. Section 302 of FLPMA states that the BLM is to manage public lands under the principles of multiple-use and sustained yield “except that where a tract of such public land has been dedicated to specific uses according to other provisions of law, it shall be managed in accordance with such law.” In section 601 of FLPMA, Congress designated the CDCA with the purpose of “provid[ing] for the immediate and future protection and administration of the public lands in the California desert within the framework of a program of multiple use and sustained yield, and the maintenance of environmental quality.” The MTNM is located within the boundaries of the CDCA.

The MTNM is a part of the National Landscape Conservation System, which was established by section 2002 of the Omnibus Public Land Management Act of 2009 “in order to conserve, protect, and restore nationally significant landscapes” and specifically includes national monuments. This section also directs the BLM to manage the lands in the National Landscape Conservation System “in a manner that protects the values for which the components of the system were designated.”

In 2016, Presidential Proclamation 9395 established the MTNM. This proclamation identified the resources, objects, and values for protection. In addition, this proclamation required the BLM to prepare and maintain a management plan for the monument.

The BLM needs to modify some of the existing CDCA land use plan decisions and make implementation-level decisions for the MTNM.

The purpose of the MTNM Plan and CDCA land use plan amendment is to provide a management framework, including goals, objectives, and management direction to guide management of BLM administered lands in the MTNM consistent with applicable laws, regulations, and policy.

The purpose of this action is focused on the protection of the MTNM to preserve its cultural, prehistoric, and historic legacy and maintain its diverse array of natural and scientific resources, ensuring that the prehistoric, historic, and scientific values of the area remain for the benefit of all Americans.

Purpose and need statements serve to frame issue identification, alternative development, and effects analyses for the environmental document. The following additional purposes and desired outcomes are provided for in Proclamation 9395 or have been identified based on key present and/or historical MTNM management challenges. Associated challenges and opportunities that the monument management plan and land use plan amendments will address are also summarized.

1. Manage the National Monument's scarce springs and riparian areas in a manner that provides refuge for a wide variety of plants and animals.

Challenges and opportunities: There are over 30 springs within the MTNM that provide habitat for a variety of plant and wildlife populations. In addition, underlying groundwater resources support both springs and riparian areas. Groundwater pumping (as described in Proclamation 9395), the spread of invasive plants, and climate change all have the potential to impact springs and riparian areas. The BLM will establish management guidance to manage springs and riparian areas to meet the express provisions of law and the proclamation. Implementation-level decisions and modifications to existing land use plan-level decisions can help provide management direction for these springs and riparian areas.

2. Emphasize the MTNM as a landscape for geological, paleontological, hydrological, and ecological research, including studies on the effects of climate change and land management practices on ecological communities and wildlife. The MTNM also provides opportunity for further research on ecological connectivity in the Mojave Desert region.

Challenges and opportunities: The MTNM provides invaluable resources to scientists. The unique area contains a stunning diversity of lava flows, mountains, playas, sand dunes, bajadas, washes, and other features that have been extensively studied and provide insight for numerous disciplines. The monument also provides opportunity for further research on ecological connectivity in the Mojave Desert region, as it is among the most ecologically intact areas in Southern California. Scientific research plays a crucial role in further understanding the monument's resources, objects, and values and informing BLM management decisions. The BLM needs to establish implementation-level management guidance to allow research to take place while protecting the monument's resources, objects, and values, and establishes a process for the BLM to obtain research results and data collected on the monument.

3. Properly care for and manage the outstanding paleontological resources for their protection.

Challenges and opportunities: The fossil history in the MTNM has been used to understand the climate history of the Mojave Desert. Implementation-level decisions and modifications to existing land use plan-level decisions should be made to support protection of paleontological resources.

4. Protect the specific habitat types found in the MTNM that support plant and wildlife species.

Challenges and opportunities: Uses of the monument include increasing recreational activity, lands and realty activities such as rights-of-ways, and mineral use that can impact various plant and wildlife communities and habitats. Existing ACECs protect plants and wildlife and their associated habitat. Implementation-level decisions and modifications to existing land use plan-level decisions will allow the BLM to manage and maintain the MTNM's diverse array of natural resources.

5. Protect the cultural, prehistoric, and historic legacy of the MTNM.

Challenges and opportunities: Recreational use, permitted activities, and climate change have the potential to impact the cultural, prehistoric, and historic legacy of the Mojave Trails area. The BLM will establish management guidance to help inform the public and protect the cultural, prehistoric, and historic legacy of the Mojave Trails area. Implementation-level decisions and modifications to existing land use plan-level decisions will provide management direction to protect and preserve the cultural, prehistoric, and historic legacy of the MTNM and ensure that the prehistoric, historic, and scientific values of this area remain available for the benefit of all Americans.

6. Provide for use of these public lands while protecting and preserving the area's cultural, prehistoric, and historic legacy, maintaining its diverse array of natural and scientific resources, and ensuring that the prehistoric, historic, and scientific values of this area remain for the benefit of all Americans.

Challenges and opportunities: Recreational activities in the area include hiking, camping, wildlife viewing, motorized sight-seeing, horseback riding, picnicking, mountain biking, hunting, target shooting, and off-highway vehicle use. In addition, uses of the monument also include rights-of-way and mineral activities associated with valid existing rights pre-dating designation of the monument. Recreational use accounts for the majority of visitation to the MTNM and is an important land use in the area. Implementation-level decisions and modifications to existing land use plan-level decisions will consider how to protect monument resources, objects, and values when considering other uses of monument lands.

Preliminary Alternatives

The BLM will be analyzing alternatives that explore and evaluate different ways of achieving the purpose and need listed above through both implementation-level decisions in the new monument management plan and modifications to existing land use plan-level decisions. The alternatives will explore different management strategies during this planning effort to understand the trade-offs of different land management approaches. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and stakeholders. The BLM has identified preliminary issues for this planning effort's analysis and will provide them for public review as part of the planning criteria within the timeframe identified in DATES above. The planning criteria are available for public review and comment at the ePlanning website (see ADDRESSES).

Public Scoping Process

This notice of intent initiates the scoping period and public review of the planning criteria, which guide the development and analysis of the management plan, land use plan amendment, and EA.

The BLM will hold four scoping meetings, one virtually, and three in person at the following locations: the cities of Needles, Barstow, and Twentynine Palms. The specific date(s) and location(s) of these scoping meetings will be announced at least 15 days in advance through local media, newspapers, ePlanning project page, the BLM website, and the BLM social media.

Areas of Critical Environmental Concern (ACECs)

The following 15 ACECs are currently designated in the planning area: Afton Canyon (9,194 acres; rare vegetation and wildlife habitat relevant and important values), Amboy Crater (639 acres; rare vegetation and wildlife habitat relevant and important values), Bigelow Cholla Research Natural Area (5,801 acres; wildlife, cultural, and scenic relevant and important values), Bristol Mountains (229,397 acres; scenic values, cultural, and wildlife relevant and important values), Cadiz Valley (171,791 acres; rare vegetation/wildlife habitat [old growth] relevant and important values), Cady Mountains (104,315 acres; rare vegetation relevant and important values), Chemehuevi (471,323 acres; rare vegetation/wildlife habitat [old growth] relevant and important values), Chuckwalla to Chemehuevi Tortoise Linkage (34,777 acres; rare vegetation/wildlife habitat [old growth] relevant and important values), Marble Mountain (231 acres; natural values [active and stabilized sand dunes, wetlands and endangered and BLM sensitive plants] relevant and important values), Mesquite Hills-Crucero (4,388 acres located within the MTNM and 616 acres located outside MTNM; slender Orcutt grass habitat, cultural resources and wildlife relevant and important values), Mojave fringe-toed lizard (11,127 acres located within MTNM and 1,278 acres located outside MTNM; rare habitats, vegetation, wildlife, and cultural resources relevant and important values), Patton Military Camps (14,064 acres located within MTNM and 107 acres located outside MTNM; cultural and historic resources relevant and important values), Pisgah Research Natural Area (20,990 acres; cultural resources and wildlife and plant assemblages relevant and important values), Piute-Fenner (4,706 acres located within MTNM and 151,004 acres located outside MTNM; desert tortoise habitat, vegetation and sensitive botanicals, cultural and historical resources relevant and important values), and Santos Manuel (800 acres located within MTNM and 26,750 acres located outside MTNM; desert tortoise habitat, culturally significant area relevant and important values). Information about each existing ACEC, including the size, relevant and important values, and other helpful information is available in the CDCA Plan as amended by the Desert Renewable Energy Conservation Plan online at on the project's website (see ADDRESSES). The BLM will reevaluate existing designated ACECs in the draft land use plan amendment to determine if relevant and important values still exist and if special management attention is still warranted and analyze additional areas for consideration of designation. No additional areas were identified for consideration as ACECs during preplanning and early engagement. This notice invites the public to nominate additional areas for ACEC consideration within the planning area. To assist the BLM in evaluating nominations for consideration in the draft land use plan amendment, please provide supporting descriptive materials, maps, and evidence of the relevance and importance of resources or hazards by the close of the public comment period to facilitate timely evaluation. The BLM has identified the anticipated issues related to the consideration of ACECs in the planning criteria.

Interdisciplinary Team

The BLM will use an interdisciplinary approach to develop the plan to consider the variety of resource issues and concerns identified. Specialists with expertise in the following disciplines will be involved in this planning effort: rangeland management, minerals and geology, outdoor recreation, archaeology, paleontology, wildlife and fisheries, lands and realty, hydrology, soils, fire and fuels, visual resources, sociology and economics, climate, and air.

Additional Information

The BLM will identify, analyze, and consider mitigation to address the reasonably foreseeable impacts to resources from the proposed monument management plan and land use plan amendment, and all analyzed reasonable alternatives, and, in accordance with 40 CFR 1502.14(e), include appropriate mitigation measures not already included in the proposed management plan and land use plan amendment, or alternatives. Mitigation may include avoidance, minimization, rectification, reduction or elimination over time, and compensation; it may be considered at multiple scales, including the landscape scale.

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed monument management plan and land use plan amendment will assist the BLM in identifying and evaluating impacts to such resources.

The BLM will consult with Tribal Nations on a government-to-government basis in accordance with Executive Order 13175, BLM MS 1780, and other Departmental policies. Tribal concerns, including impacts on Indian trust assets and potential impacts to cultural resources, will be given due consideration. Federal, State, and local agencies, along with Tribes and stakeholders that may be interested in or affected by the BLM's proposed MTNM Management Plan and CDCA land use plan amendment are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2.)

Karen E. Mouritsen,
BLM California State Director.

[FR Doc. 2023-09619 Filed 5-4-23; 8:45 am]

BILLING CODE 4331-15-P